DEPARTMENT OF HEALTH AND HUMAN SERVICES

Centers for Disease Control and Prevention

[Program Announcement 04074]

Achieve and Sustain Measles, Rubella, and Congenital Rubella Syndrome (CRS) Elimination in the Americas Notice of Intent To Fund Single Eligibility Award

A. Purpose

The Centers for Disease Control and Prevention (CDC) announces the intent to fund fiscal year (FY) 2004 funds for a cooperative agreement program to achieve and sustain measles, rubella, and congenital rubella syndrome (CRS) elimination in the Americas. The Catalog of Federal Domestic Assistance number for this program is 93.185.

B. Eligible Applicant

Assistance will be provided only to Pan American Health Organization (PAHO). PAHO is the most appropriate and qualified agency to conduct the activities under this cooperative agreement because:

1. PAHO has the lead responsibility among the United Nations organizations for implementing activities to achieve the Pan American Sanitary Conference resolution of 1994 calling for the regional elimination of measles, and the year 2003 resolution calling for the elimination of rubella and CRS by year 2010. PAHO is the only organization in the Americas with a regional mandate for the control and prevention of vaccine-preventable diseases (VPD).

2. The proposed program is strongly supportive of, and directly related to, the achievement of PAHO and CDC/National Immunization Program objectives for the control and prevention of VPDs with emphasis on CDC's objectives.

3. PAHO, in collaboration with the Governments of Brazil, Canada, Netherlands, Spain, USAID, March of Dimes, Sabin Institute, American Red Cross and CDC, are partners in an international effort to increase support and visibility for both the measles and rubella elimination initiatives.

C. Funding

Approximately $6,000,000 is available in FY 2004 to fund this award. It is expected that the award will begin on or before May 1, 2004, and will be made for a 12-month budget period within a project period of up to five years. Funding estimates may change.

D. Where To Obtain Additional Information

For general comments or questions about this announcement, contact: Technical Information Management, CDC Procurement and Grants Office, 2920 Brandywine Road, Atlanta, GA 30341-4146, Telephone: 770-488-2700.

For technical questions about this program, contact: Leo F. Weakland, Project Officer, Global Immunization Division, National Immunization Program,Centers for Disease Control and Prevention, Mailstop E-05, Atlanta, Georgia 30333, telephone: 404-639-8252, E-mail Address: lfwo@cdc.gov.

Dated: March 9, 2004.
Sandra R. Manning,
Director, Procurement and Grants Office, Centers for Disease Control and Prevention.

[FR Doc. 04-5740 Filed 3-12-04; 8:45 am]

BILLING CODE 4163-18-P